DEPARTMENT OF THE INTERIOR

National Park Service

[NPS-WASO-NRNHL-19066; PPWOCRADI0, PCU00RP14.R50000]

National Register of Historic Places; Notification of Pending Nominations and Related Actions

Nominations for the following properties being considered for listing or related actions in the National Register were received by the National Park Service before August 8, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 14, 2015. Before including your address, phone number, email address, or other personal identifying information in your comment, you should be aware that your entire comment—including your personal identifying information—may be made publicly available at any time. While you can ask us in your comment to withhold your personal identifying information from public review, we cannot guarantee that we will be able to do so.

Dated: August 13, 2015.
J. Paul Loether,
Chief, National Register of Historic Places/National Historic Landmarks Program.

COLORADO

El Paso County

Old North End Historic District (Boundary Increase), Bounded by Monument Valley Park, alley between Nevada Ave. & Weber St., Lilac, & Uintah Sts.,Colorado Springs, 15000585

CONNECTICUT

New Haven County

United States Post Office and Court House, 145 Church St.,New Haven, 15000586

FLORIDA

Alachua County

Weil—Cassisi House, (Sarasota School of Architecture MPS)3105 SW. 5th Ct., Gainesville, 15000587

Palm Beach County

Royal Poinciana Way Historic District, Bounded by 207-283 Royal Poinciana Way, 95-118 N. Cty. Rd. 184-280, Palm Beach, 15000588

GEORGIA

Troup County

Riverside Club—Magnolia Club, 802 1st Ave.,West Point, 15000589

ILLINOIS

McLean County

Van Dolah, David Hyatt, House, 10 N. Spencer St.,Lexington, 15000590

INDIANA

Boone County

Ulen Historic District, (Historic Residential Suburbs in the United States, 1830-1960 MPS) Roughly Ulen Country Club & Golf Course & houses along Ulen Blvd. & East Dr., Ulen, 15000591

Carroll County

Delphi Methodist Episcopal Church,118 N. Union St., Delphi, 15000592

Fountain County

Covington Courthouse Square Historic District,Roughly bounded by 3rd St. & alleys N. of Washington, E. of 4th & S. of Liberty Sts., Covington, 15000593

Covington Residential Historic District, Roughly bounded by Pearl, Liberty, 4th & 7th Sts., Covington, 15000594

Hancock County

Browne—Rafert House, 534 N. Merrill St., Fortville, 15000595

Madison County

Lauter, H., Company Complex,35-101 S. Harding St., Indianapolis, 15000596

Noble County

Cromwell Historic District,Jefferson between 2nd & Orange Sts.,Cromwell, 15000597

Putnam County

Forest Hill Cemetery, 2181 S. Cty. Rd. 50 W.,Greencastle, 15000598

Tippecanoe County

Archeological Sites 12T59 and 12T530,Address Restricted, West Lafayette, 15000599

Wabash County

Hopewell Methodist Episcopal Church and Cemetery, 5031 E. 300 N.,Urbana, 15000600

Warren County

Van Reed Farmstead, 5322 Old US 41,Williamsport, 15000601

Wayne County

Richmond High School, 380 Hub Etchison Pkwy.,Richmond, 15000602

MARYLAND

Baltimore Independent city

Auchentoroly Terrace Historic District,Roughly bounded by Auchentoroly Terrace, Reisterstown Rd., Liberty Heights & Fulton Aves., Baltimore (Independent City), 15000604

NEW MEXICO

Colfax County

Raton Pass Scenic Highway, Roughly from.1 mi. from jct. of Hill St. & Moulton Ave. continuing approx. 1.5 mi. on Scenic Hwy., Raton, 15000605

Hidalgo County

Lordsburg High School, 209 Penn St., Lordsburg, 15000606

NEW YORK

New York County

West Side Unitarian Church—Congregation Ramath Orah,550 W. 110th St., New York, 15000608

Oneida County

U.S. Post Office, Court House and Custom House, 10 Broad St.,Utica, 15000609

St. Lawrence County

First Presbyterian Church Complex, 22 Church St.,Gouverneur, 15000607

Washington County

Burton Hall, 1071 NY 40, Greenwich, 15000610

OHIO

Cuyahoga County

Mayfield Heights Historic District, Caldwell & Preyer Aves., Rock Ct., Euclid Heights Blvd., Hampshire, Mayfield, Middlehurst, Radnor & Somerton Rds.,Cleveland Heights, 15000611

Stuyvesant Motor Company Building,

1937 Prospect Ave., Cleveland, 15000612

Licking County

Newark High School, 112 W. Main St., 9 N. 5th St.,Newark, 15000613

OREGON

Jefferson County

Jefferson County Courthouse, 34 SE. D St., Madras, 15000614

Washington County

Masters, Andrew Jackson and Sarah Jane, House, (Settlement-era Dwellings, Barns and Farm Groups of the Willamette Valley, Oregon MPS) 20650 SW. Kinnaman Rd.,Aloha, 15000615

SOUTH CAROLINA

Spartanburg County

Apalache Mill, 2200 Racing Rd., Greer, 15000616

TEXAS

Bexar County

Travelers Hotel, 220 Broadway, San Antonio, 15000617

Galveston County

Quigg—Baulard House, 2628 Broadway, Galveston, 15000618

Travis County

Covert Park at Mount Bonnell, 3800 Mount Bonnell Rd., Austin, 15000619

A request to move has been received for the following resource:

INDIANA

Clay County

Indiana State Highway Bridge 46-11-1316, IN 46 over Eel R.,Bowling Green, 00000211

A request for removal has been received for the following resources:

GEORGIA

Elbert County

Allen, William, House, 9 mi. E of Elberton on GA 6, Elberton, 75000591

Fulton County

Glenridge Hall, 6615 Glenridge Dr., Atlanta, 82002418

INDIANA

Clay County

Indiana State Highway Bridge 46-11-1316, IN 46 over Eel R.,Bowling Green, 00000211

[FR Doc. 2015-21292 Filed 8-27-15; 8:45 am]

BILLING CODE 4312-51-P